DEPARTMENT OF HOMELAND SECURITY

[Docket No. DHS-2022-0037]

Homeland Security Advisory Council

AGENCY: The Office of Partnership and Engagement (OPE), The Department of Homeland Security (DHS).

ACTION: Notice of charter amendment.

SUMMARY: The Homeland Security Advisory Council has amended its charter.

FOR FURTHER INFORMATION CONTACT: Rebecca F. Sternhell at HSAC@hq.dhs.gov or at 202-891-2876.

SUPPLEMENTARY INFORMATION:

The Homeland Security Advisory Council (HSAC) was established in April 2003, under the authority of title 6 United States Code, section 451, and chartered under the provisions of the Federal Advisory Committee Act (FACA), 5 U.S.C. app. This discretionary Council provides nonpartisan and organizationally independent strategic advice to the Secretary of Homeland Security on critical matters related to Homeland Security.

The HSAC has made the following three amendments to its charter.

1. The previous charter stated there was one Chair. It is now amended to provide for two co-Chairs and a Vice-Chair who will support the co-Chairs.

2. The requirement that one-third of all member terms expire each year has been removed. The charter now provides that all member term lengths will be one to three years.

3. In compliance with Executive Order 14035 on Diversity, Equity, Inclusion & Accessibility in the Federal Workforce, the amended charter includes the following language: “In order for DHS to fully leverage broad-ranging experience and education, the Council must be diverse with regard to professional and technical expertise. DHS is committed to pursuing opportunities, consistent with applicable law, to compose a committee that reflects the diversity of the nation's people.”

For any questions regarding the amendments, please contact the individual in the FOR FURTHER INFORMATION CONTACT section of this notice.

Dated: December 14, 2022.
Rebecca Sternhell,
Executive Director,Homeland Security Advisory Council,Department of Homeland Security.

[FR Doc. 2022-27554 Filed 12-19-22; 8:45 am]

BILLING CODE 9112-FN-P